FEDERAL COMMUNICATIONS COMMISSION

[DA 03-638]

ITFS, MDS, and MMDS Pending Legal Matters

AGENCY: Federal Communications Commission.

ACTION: Notice.

SUMMARY: In this document the Wireless Telecommunications Bureau (WTB) has released two lists, the first contains legal matters with a filing date prior to March 25, 2002 where the applicant/licensee (or petitioner, if the petitioner is not the applicant or licensee) did not respond to the October Public Notice. Accordingly, any items on the first list are dismissed with prejudice. The second list contains all the current pending legal matters that are in WTB's records in the Instructional Television Fixed Service (ITFS), the Multipoint Distribution Service (MDS), and the Multichannel Multipoint Distribution Service (MMDS). This Public Notice ensures that the WTB has a complete and accurate listing of all pending legal matters in the ITFS, the MDS, and the MMDS, which will enable the WTB to act on these pending legal matters.

ADDRESSES: Federal Communications Commission, 445 12th Street, SW., TW-A325, Washington, DC 20554.

FOR FURTHER INFORMATION CONTACT: Gregory Vadas, Esq., Policy and Rules Branch, at (202) 418-0680.

SUPPLEMENTARY INFORMATION: This is a summary of the Commission's Public Notice, DA 03-638, released on March 18, 2002. The full text of this document is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

1. On October 18, 2002, the Wireless Telecommunications Bureau (WTB) released a Public Notice (October Public Notice) in which it sought to ensure that it had a complete and accurate listing of all pending legal matters in the Instructional Television Fixed Service (ITFS), the Multipoint Distribution Service (MDS), and the Multichannel Multipoint Distribution Service (MMDS). An Appendix (October Appendix) containing a list of all of the pending ITFS, MDS, and MMDS cases was attached to the October Public Notice. The October Appendix indicated the name of the applicant/licensee, the file number/call sign, the pleading type and filing date, the name of the petitioner, if not the applicant, and whether the file was complete. WTB required that all ITFS, MDS, and MMDS licensees, applicants, and other parties with pending pleadings relating to these services review and verify the information contained in the October Appendix. For legal matters with a filing date before March 25, 2002, WTB required that licensees, applicants, and other parties with pending pleadings respond in writing by December 17, 2002 if they desired that WTB continue processing these matters.

2. Appendix A to this Public Notice contains a list of those legal matters with a filing date prior to March 25, 2002 where the applicant/licensee (or petitioner, if the petitioner is not the applicant or licensee) did not respond to the October Public Notice. In the October Public Notice, WTB indicated, “For any legal matter for which written affirmations requesting further processing have not been received, those legal matters will be dismissed with prejudice.” Accordingly, it is ordered, pursuant to section 4(i) of the Communications Act of 1934, as amended, 47 U.S.C. 154(i) and sections 21.28(d) and 73.3568(a)(1) of the Commission's Rules, 47 CFR 21.28 (d), 73.3568(a)(1), the legal matters listed in Appendix A to this Public Notice are hereby dismissed with prejudice.

3. WTB also requested petitioners of legal matters pending before the Bureau to review the list of pending matters in the October Appendix. If a pending matter was omitted from the October Appendix, WTB required petitioners to submit two date-stamped copies of the omitted petition or filing by December 17, 2002 if the petitioner desired to continue prosecuting the filing. After our review of these files, we have determined that the cases listed in Appendix B to this Public Notice are all the valid pending legal matters that are contained in WTB's records.

4. With respect to other requests to add legal matters to its list of pending legal matters, the WTB notes that in many instances, the respondent, but not the petitioner, submitted legal matters. In those cases, we are not adding those matters to our list of pending legal matters because the petitioner did not express interest in prosecuting the matter.

Federal Communications Commission.
Marlene H. Dortch,
Secretary.

Applicant/licensee | File No./call sign | Petitioner (if not applicant) | Filing date | Pleading type
Alda Gold, Inc | BPMD-9551382 |  | 3/28/97 | Petition for Reconsideration.
Alda Gold, Inc | BPMD-9551384 |  | 3/28/97 | Petition for Reconsideration.
Alda Gold, Inc | BPMD-9551386 |  | 3/28/97 | Petition for Reconsideration.
Alda Gold, Inc | WHJ902 |  | 3/28/97 | Petition for Reconsideration.
Alda Gold, Inc | WHK656 |  | 3/28/97 | Petition for Reconsideration.
Alda Gold, Inc | WNTL436 |  | 3/28/97 | Petition for Reconsideration.
Atlantic MicroSystems, Inc | BMDP960510FG |  | 6/17/96 | Petition to Deny.
Bookcliff Christian School | 951020TS |  | 6/16/97 | Informal Complaint.
Bridgewater College | BPLIF-93123OEX |  | 2/26/96 | Petition for Reconsideration.
Burlington College | 911008DX | Ascutney Associates, Inc | 1/3/92 | Petition to Deny.
Burlington College | 920110DE | Ascutney Associates, Inc | 4/16/92 | Petition to Deny.
Century Microwave Corp | BALMD-20000421AAC | Sprint Corp | 4/21/00 | Petition to Deny.
Century Microwave Corp | WMH689 | Sprint Corp | 4/21/00 | Petition to Deny.
Champion Industries, Inc | BPMD-9551406 |  | 3/28/97 | Petition for Reconsideration.
Champion Industries, Inc | WNTK634 |  | 3/28/97 | Petition for Reconsideration.
Champlain College, Shoreham, Vermont | BPLIF-911010DS | Champlain College, Shoreham, Vermont | 1/13/92 | Petition to Deny.
Creighton Univ | 931230DU | ABG Foundation NE Chapter, Inc | 5/31/94 | Petition to Deny.
CS Wireless Systems, Inc | 9750418 | Dallas MDS Partners | 3/4/97 | Petition to Deny.
CS Wireless Systems, Inc | WHT789 | Dallas MDS Partners | 3/4/97 | Petition to Deny.
Dennis R. Long | BALMD-20011106AAE | Wireless Cable Television of Pennsylvania, Inc and Wireless Telecommunications, Inc | 9/11/95 | Petition to Deny.
Dennis R. Long | BALMD-955197 | Wireless Cable Television of Pennsylvania, Inc and Wireless Telecommunications, Inc | 9/11/95 | Petition to Deny.
Dennis R. Long | WMI836 | Wireless Cable Television of Pennsylvania, Inc and Wireless Telecommunications, Inc | 9/11/95 | Petition to Deny.
Gould Communications | WNTF307 | Sprint Corp | 7/21/00 | Informal Complaint.
Heartland Wireless Commercial Channels, Inc | 980518LF |  | 6/30/98 | Petition to Deny.
Hubbard Trust (San Marcos, CA) | BRMD-9157898 |  | 4/2/97 | Petition for Clarification.
Hubbard Trust (San Marcos, CA) | WPX85 |  | 4/2/97 | Petition for Clarification.
Iberville Parish School and LA State Institute Alumni Associates | 931228DI | Louisiana Art | 5/31/94 | Petition to Deny.
Iberville Parish School and LA State Alumni Associates | 931230HE | Lousiana Art Institute | 5/31/94 | Petition to Deny.
Ivan Nachman; Blake Twedt; John Dudek (Burlington, VT) | BLMD-9350608 | Vermont Wireless | 4/14/93 | Informal Complaint Cooperative.
Ivan Nachman; Blake Twedt; John Dudek (Burlington, VT) | BLMD-9350609 | Vermont Wireless Cooperative | 4/14/93 | Informal Complaint.
Ivan Nachman; Blake Twedt; John Dudek (Burlington, VT) | BLMD-9350610 | Vermont Wireless Cooperative | 4/14/93 | Informal Complaint.
Ivan Nachman; Blake Twedt; John Dudek (Burlington, VT) | WNTH842 | Vermont Wireless Cooperative | 4/14/93 | Informal Complaint.
Ivan Nachman; Blake Twedt; John Dudek (Burlington, VT) | WNTI675 | Vermont Wireless Cooperative | 4/14/93 | Informal Complaint.
Ivan Nachman; Blake Twedt; John Dudek (Burlington, VT) | WNTI680 | Vermont Wireless Cooperative | 4/14/93 | Informal Complaint.
JMP Telecom Systems, Inc | 51022-CM-P-92 |  | 8/10/95 | Petition for Reconsideration.
KNRW Wireless, L.P. | 55137-CM-P-90 |  | 6/27/95 | Petition for Reconsideration.
Libmot Communications | BALMD-20000721AAE |  | 7/21/00 | Informal Complaint.
Libmot Communications | WNTG452 |  | 7/21/00 | Informal Complaint.
Line of Site, Inc; Young Communications; Libmot Communications Partnership; Gould Communications (Omaha, NE) | BLMD-9253087 | Ad Hoc Committee of Wireless Development Partners I and Skycable of Omaha, LLC | 9/8/94 | Informal Complaint.
Line of Site, Inc; Young Communications; Libmot Communications Partnership; Gould Communications (Omaha, NE) | BLMD-9350403 | Ad Hoc Committee of Wireless Development Partners I and Skycable of Omaha, LLC | 9/8/94 | Informal Complaint.
Line of Site, Inc; Young Communications; Libmot Communications Partnership; Gould (Omaha, NE) | BLMD-9350428 | Ad Hoc Committee of Wireless Development Partners I and Communications Skycable of Omaha, LLC | 9/8/94 | Informal Complaint.
Line of Site, Inc; Young Communications; Libmot Communications Partnership; Gould Communications (Omaha, NE) | BPMD-7705208 | Ad Hoc Committee of Wireless Development Partners I and Skycable of Omaha, LLC | 9/8/94 | Informal Complaint.
Line of Site, Inc.; Young Communications; Libmot Communications Partnership; Gould Communications (Omaha, NE) | BPMD-8950226 | Ad Hoc Committee of Wireless Development Partners I and Skycable of Omaha, LLC | 9/8/94 | Informal Complaint.
Line of Site, Inc.; Young Communications; Libmot Communications Partnership; Gould Communications (Omaha, NE) | WHT777 | Ad Hoc Committee of Wireless Development Partners I and Skycable of Omaha, LLC | 9/8/94 | Informal Complaint.
Line of Site, Inc.; Young Communications; Libmot Communications Partnership; Gould Communications (Omaha, NE) | WLW992 | Ad Hoc Committee of Wireless Development Partners I and Skycable of Omaha, LLC | 9/8/94 | Informal Complaint.
Line of Site, Inc.; Young Communications; Libmot Communications Partnership; Gould Communications (Omaha, NE) | WNTF307 | Ad Hoc Committee of Wireless Development Partners I and Skycable of Omaha, LLC | 9/8/94 | Informal Complaint.
Line of Site, Inc.; Young Communications; Libmot Communications Partnership; Gould Communications (Omaha, NE) | WNTF452 | Ad Hoc Committee of Wireless Development Partners I and Skycable of Omaha, LLC | 9/8/94 | Informal Complaint.
Multi Micro, Inc | BTCMD-20010815AAJ | WinBeam, Inc | 11/5/01 | Informal Complaint.
Multi Micro, Inc | WMH661 | WinBeam, Inc | 11/5/01 | Informal Complaint.
Multi Micro, Inc | WMI413 | WinBeam, Inc | 11/5/01 | Informal Complaint.
Multi Micro, Inc | WMI970 | WinBeam, Inc | 11/5/01 | Informal Complaint.
Multi Micro, Inc | WMX703 | WinBeam, Inc | 11/5/01 | Informal Complaint.
Multi Micro, Inc | WMX704 | WinBeam, Inc | 11/5/01 | Informal Complaint.
Multi Micro, Inc | WNTJ462 | WinBeam, Inc | 11/5/01 | Informal Complaint.
Multichannel Distribution of America (Myrtle Beach, SC) | BMPMD-9550321 |  | 5/6/96 | Petition for Reconsideration.
Multichannel Distribution of America (Myrtle Beach, SC) | WLK351 |  | 5/6/96 | Petition for Reconsideration.
MultiMicro, Inc | BRMD-20010323ABE | WinBeam, Inc | 8/30/01 | Petition to Deny.
MultiMicro, Inc | BRMD-20010323ABF | WinBeam, Inc | 8/30/01 | Petition to Deny.
Multi-Micro, Inc., Channels F1-F4 in Parkersburg, WV | BPMDH-20000818ACZ |  | 4/2/01 | Petition to Deny.
Multi-Micro, Inc., Channels F1-F4 in Parkersburg, WV | BPMDH-20000818ADX |  | 4/2/01 | Petition to Deny.
Multi-Micro, Inc., Channels F1-F4 in Parkersburg, WV | BPMDH-20000818DIK |  | 4/2/01 | Petition to Deny.
Myrtle Beach E Partnership (Myrtle Beach, SC) | BPMD-9053281 |  | 8/8/94 | Petition for Reconsideration.
Northern Rural Cable TV Cooperative, Inc. (Bath/Aberdeen, SD) | BPMD-9212856 |  | 9/11/98 | Informal Complaint.
Northern Rural Cable TV Cooperative, Inc. (Bath/Aberdeen, SD) | WMY463 |  | 9/11/98 | Informal Complaint.
Ouachita Academy of Arts and Science Rayville, Louisiana | BPLIF-920309DA |  | 1/18/95 | Petition for Reconsideration.
Ouachita Academy of Arts and Science Rayville, Louisiana | BPLIF-930219DN |  | 1/18/95 | Petition for Reconsideration.
Ouachita Academy of Arts and Science Rayville, Louisiana | BPLIF-930219DP |  | 1/18/95 | Petition for Reconsideration.
Paging Systems, Inc | BMPMD-9551420 |  | 11/3/95 | Petition to Deny.
Paging Systems, Inc | WNTF895 |  | 11/3/95 | Petition to Deny.
Richard Levy | 52898-CM-P-90 |  | 11/23/96 | Petition for Reconsideration.
School Board of Dade County, Florida | BMPLIF-950915HW |  | 11/1/96 | Petition to Deny.
Senvista General Partnership Inc | 9750738 | Paradise Cable | 8/8/97 | Petition to Deny.
Senvista General Partnership Inc | WNTK634 | Paradise Cable | 8/8/97 | Petition to Deny.
Senvista General Partnership Inc. (Bradenton, FL) | BMPMD-9750738 | Paradise Cable | 7/5/96 | Petition for Reconsideration.
Senvista General Partnership Inc. (Bradenton, FL) | BMPMD-9551406 | Paradise Cable | 7/5/96 | Petition for Reconsideration.
Senvista General Partnership Inc. (Bradenton, FL) | WNTK634 | Paradise Cable | 7/5/96 | Petition for Reconsideration.
Tattnall County Board | BPLIF951020T6 | Armstrong State College | 7/30/98 | Petition to Deny.
The School Board of Miami-Dade County, Florida | BMPLIF-19950915HW |  | 1/31/01 | Waiver Request.
The School Board of Miami-Dade County, Florida | KTB85 |  | 1/31/01 | Waiver Request.
Tide Microcable II Partnership | 53025-CM-P-91 |  | 5/26/95 | Petition for Reconsideration.
United Management Services-Eugene, Oregon F | 54302-CM-P-90 |  | 8/7/95 | Petition for Reconsideration.
United/JCL Eureka, CA F Grand Alliance | 54855-CM-P-90 |  | 3/2/95 | Petition for Reconsideration.
Victor Elementary School District | BPLIF941201DA |  | 11/1/96 | Petition for Relief.
Walter Communications | BALMD-5159695 | Wireless Cable Television of Pennsylvania, Inc. and Wireless Telecommunications, Inc. | 9/11/95 | Petition to Deny.
Walter Communications | WMH648 | Wireless Cable Television of Pennsylvania, Inc. and Wireless Telecommunications, Inc. | 9/11/95 | Petition to Deny.
Wireless One of Augusta, Inc. | BMDP960510OY | Bonnie D. O'Connell | 6/17/96 | Petition to Deny.
Wireless One of Augusta, Inc | BMDP960510OZ | Bonnie D. O'Connell | 6/17/96 | Petition to Deny.
WTB, Inc | BALMD-20000927AAA |  | 9/27/01 | Waiver Request.
WTB, Inc | BALMD-20010129AEH |  | 9/27/01 | Waiver Request.
WTB, Inc | BTA342 |  | 9/27/01 | Waiver Request.
WTB, Inc | KNSC260 |  | 9/27/01 | Waiver Request.
WTB, Inc | KNSC303 |  | 9/27/01 | Waiver Request.
WTB, Inc | KNSD413 |  | 9/27/01 | Waiver Request.

Applicant/licensee | File No./call sign | Pleading type | Petitioner (if not applicant) | Filing date
ABG Foundation, Nebraska Chapter, Inc | BPLIF-19920925DE | Petition to Deny | USA Wireless Cable, Inc | 12/30/93
AIG Radio Holding Co., Inc. (Bremerton, WA) | BRMD-20010330AGU | Petition for Reconsideration |  | 9/25/01
AIG Radio Holding Co., Inc. (Bremerton, WA) | WMI890 | Petition for Reconsideration |  | 9/25/01
Alaska Wireless Cable, Inc. | WPY44 | Waiver Request |  | 12/6/02
Albion Community Development Corporation | BPLIF-951017AB | Petition for Reconsideration |  | 4/16/02
Albion Community Development Corporation | BALIF-20010214AAD | Petition for Reconsideration |  | 4/18/02
Albion Community Development Corporation | BALIF-20010214AAE | Petition for Reconsideration |  | 4/18/02
Albion Community Development Corporation | BALIF-20010214AAF | Petition for Reconsideration |  | 4/18/02
Albion Community Development Corporation | BALIF-20010214AAG | Petition for Reconsideration |  | 4/18/02
Albion Community Development Corporation | BALIF-20010214AAH | Petition for Reconsideration |  | 4/18/02
Albion Community Development Corporation | BALIF-20010214AAI | Petition for Reconsideration |  | 4/18/02
Albion Community Development Corporation | WLX531 | Petition for Reconsideration |  | 4/18/02
Albion/Jackson, Michigan Petitions | BPLIF-920402DL | Petition to Deny |  | 2/19/93
Albion/Jackson, Michigan Petitions | BPLIF-920402DM | Petition to Deny |  | 2/19/93
Albion/Jackson, Michigan Petitions | BPLIF-920717DB | Petition to Deny |  | 2/19/93
Allan Leeds | KNSC404 | Petition for Reconsideration |  | 3/15/02
Allan Leeds | 20000818BTQ | Petition for Reconsideration |  | 3/15/02
Alliance for Higher Education | 50423-CM-P-98 | Petition to Deny | Dallas MDS Partners | 5/18/98
Alliance for Higher Education | KWU29 | Petition to Deny | Dallas MDS Partners | 5/18/98
Alliance for Higher Education | KWU30 | Petition to Deny | Dallas MDS Partners | 5/18/98
Alma College, Mount Pleasant Baptist Academy, Mount Pleasant Public Schools, & Central Michigan Univ | WNC270 | Waiver Request |  | 6/22/98
Alma College, Mount Pleasant Baptist Academy, Mount Pleasant Public Schools, & Central Michigan Univ | WNC271 | Waiver Request |  | 6/22/98
Alma College, Mount Pleasant Baptist Academy, Mount Pleasant Public Schools, & Central Michigan Univ | WNC272 | Waiver Request |  | 6/22/98
Alma College, Mount Pleasant Baptist Academy, Mount Pleasant Public Schools, & Central Michigan Univ | WNC273 | Waiver Request |  | 6/22/98
Amarillo Independent School District | BPLIF-19910722DD | Petition to Deny | United States Wireless Cable, Inc | 9/20/91
Amarillo Independent School District | BPLIF-19910722DE | Informal objection | United States Wireless Cable, Inc | 9/2/92
American Telecasting of Portland | 20000818BHL | Petition to Deny | Hispanic Information and Telecommunications Network, Inc | 4/2/01
American Telecasting of Portland | 20000818BHX | Petition to Deny | Hispanic Information and Telecommunications Network, Inc | 4/2/01
American Telecasting of Portland | 20000818BID | Petition to Deny | Hispanic Information and Telecommunications Network, Inc | 4/2/01
American Telecasting of Portland | 20000818BTC | Petition to Deny | Hispanic Information and Telecommunications Network, Inc | 4/2/01
American Telecasting of Portland | 20000818BUC | Petition to Deny | Hispanic Information and Telecommunications Network, Inc | 4/2/01
American Telecasting of Portland | 20000818BUJ | Petition to Deny | Hispanic Information and Telecommunications Network, Inc | 4/2/01
American Telecasting of Portland | 20000818BVQ | Petition to Deny | Hispanic Information and Telecommunications Network, Inc | 4/2/01
American Telecasting of Portland | 20000818BVY | Petition to Deny | Hispanic Information and Telecommunications Network, Inc | 4/2/01
American Telecasting of Portland | 20000818BWD | Petition to Deny | Hispanic Information and Telecommunications Network, Inc | 4/2/01
American Telecasting of Portland | WHT647 | Petition to Deny | Hispanic Information and Telecommunications Network, Inc | 4/2/01
American Telecasting of Portland, Inc | BPMD-20000104AAG | Petition to Deny |  | 4/2/01
Aquas Buenas, Puerto Rico Settlement | BMPLIF-19940317DJ | Petition for Relief |  | 5/29/98
Aquas Buenas, Puerto Rico Settlement | BMPLIF-19950914MD | Petition for Relief |  | 5/29/98
Aquas Buenas, Puerto Rico Settlement | BPLIF-19941201DB | Petition for Relief |  | 5/29/98
Aquas Buenas, Puerto Rico Settlement | BPLIF-19950515EZ | Petition for Relief |  | 5/29/98
Aquas Buenas, Puerto Rico Settlement | BPLIF-19950915EY | Petition for Relief |  | 5/29/98
Armstrong State College | BPLIF951020VB | Petition to Deny | Wireless One, Inc | 1/8/97
ASC Communications, Inc | 14693-CM-P-83 | Petition for Declaratory Ruling |  | 7/25/94
ASC Communications, Inc | WMH541 | Petition for Declaratory Ruling |  | 7/25/94
ASC Communications, Inc | BMPMD-9650762 | Petition for Relief | Pacific Telesis Enterprises | 1/17/96
ASC Communications, Inc | WMH541 | Petition for Relief | Pacific Telesis Enterprises | 1/17/96
ASC Communications, Inc | 19991202AAE | Waiver Request |  | 12/2/99
ASC Communications, Inc | WMH541 | Waiver Request |  | 12/2/99
Ball State University | BPLIF-95102OHU | Petition to Deny | Hispanic Information and Telecommunications Network, Inc | 9/21/98
Barry University | BPLIF-951020PU | Petition to Deny | School Board of Dade County | 11/1/96
Barry University | KTZ22 | Petition to Deny | School Board of Dade County | 11/1/96
Bartlesville Public Schools | BPLIF-19951020B8 | Petition for Reconsideration |  | 8/7/97
Baypoint TV, Inc | 1192-CM-P-83 | Petition for Reconsideration |  | 9/10/01
Belwen, Inc. (Wilmington, NC) | BLMD-9450421 | Petition for Relief |  | 8/28/96
Belwen, Inc. (Wilmington, NC) | WMI297 | Petition for Relief |  | 8/28/96
BOCES Sole Supervisory District Oneida, Herkimer, and Madison Counties | BPLIF-19931230FU | Petition for Reconsideration | Albion Community Development Corp | 5/25/95
Bonanza Partners, Inc | 51067-CM-MP-96 | Petition to Deny | American Telecasting Development, Inc | 8/6/96
Bonanza Partners, Inc | WNTM679 | Petition to Deny | American Telecasting Development, Inc | 8/6/96
Borough of Point Pleasant Beach | BPLIF-19951020RN | Petition to Deny | CAI Wireless Systems, Inc | 5/6/98
California State University, San Bernardino | BMPLIF-19951020L6 | Petition for Relief |  | 12/31/01
California State University, San Bernardino | BMPLIF-19951020M5 | Petition for Relief |  | 12/31/01
California State University, San Bernardino | BMPLIF-951020KI | Petition for Relief |  | 12/31/01
California State University, San Bernardino | BPLIF-19951020LF | Petition for Relief |  | 12/31/01
Carbon Lehigh Intermediate Unit 21 | BPLIF-19951019AI | Petition to Deny | WorldCom Broadband Solutions, Inc | 8/8/97
Caribbean MMDS Partnership | 50870-CM-P-97 | Petition to Deny | Grand Wireless Company | 10/24/97
Caribbean MMDS Partnership | WNTK992 | Petition to Deny | Grand Wireless Company | 10/24/97
Catholic Diocese of Caguas | BPLIF-951020WN | Petition to Deny | The Catholic Archdiocese of San Juan and WHTV Broadcasting Corp | 7/14/98
Catholic Diocese of Caguas | WLX321 | Petition to Deny | The Catholic Archdiocese of San Juan and WHTV Broadcasting Corp | 7/14/98
Central Dakota TV, Inc | BALMD-19990930AAY | Petition for Reconsideration |  | 1/6/03
Central Dakota TV, Inc | BALMD-19990930AAZ | Petition for Reconsideration |  | 1/6/03
Central Dakota TV, Inc | BALMD-19990930ABA | Petition for Reconsideration |  | 1/6/03
Central Dakota TV, Inc | WLW751 | Petition for Reconsideration |  | 1/6/03
Central Dakota TV, Inc | WLW752 | Petition for Reconsideration |  | 1/6/03
Central Dakota TV, Inc | WNTB718 | Petition for Reconsideration |  | 1/6/03
Central Dakota TV, Inc | WNTE464 | Petition for Reconsideration |  | 1/6/03
Central Dakota TV, Inc | WNTF478 | Petition for Reconsideration |  | 1/6/03
Centre Unified School District #397 | BPLIF-19911213DG | Petition for Reconsideration |  | 12/21/92
Champion Industries, Inc | BMDC-9201294 | Application for Review |  | 9/13/01
Champion Industries, Inc | BPMDC-9201297 | Application for Review |  | 9/13/01
Champion Industries, Inc | 50123-CM-P-92 | Petition for Reconsideration |  | 9/20/01
Champlain College | BPLIF-911010DS | Petition to Deny | Satellite Signals of New England, Inc | 1/13/92
Chicago Instructional Technology Foundation, Inc | BPLIF-951020KF | Petition to Deny | Saint Bede Academy and Heartland Wireless Communications, Inc | 4/15/98
City University, Channels B1-B4, Olympia, WA | BMAMDIH-20010129ADF | Petition to Deny | KCTS Television, Inc | 4/2/01
Clarendon Foundation | BPLIF-19951020NC | Application for Review |  | 8/23/99
Clark County School District | BPIFH-20000818DLB | Petition to Deny | North American Catholic Educational Programming Foundation, Inc | 4/2/01
Clark County School District | WNC851 | Petition to Deny | North American Catholic Educational Programming Foundation, Inc | 4/2/01
Clark County School District | BLPLIF-931230HK | Application for Review | North American Catholic Educational Programming Foundation, Inc | 4/17/02
Clearwire Technologies, Inc | BPMDV-20010928AAH | Petition to Deny | Nucentrix Spectrum Resources, Inc | 12/7/01
Clearwire Technologies, Inc | WMI306 | Petition to Deny | Nucentrix Spectrum Resources, Inc | 12/7/01
Coleman County Telephone Cooperative, Inc. Santa Anna, TX) | BPIFH-20010420ABJ | Petition to Deny | Central Texas Communications, Inc | 6/25/01
Coleman County Telephone Cooperative, Inc. (Santa Anna, TX) | BRMD-20011113AAC | Petition to Deny | Central Texas Communications, Inc | 12/27/01
Coleman County Telephone Cooperative, Inc. (Santa Anna, TX) | BRMD-20011113AAB | Petition to Deny | Central Texas Communications, Inc | 12/27/01
Coleman County Telephone Cooperative, Inc (Santa Anna, TX) | WMY236 | Petition to Deny | Central Texas Communications, Inc | 12/27/01
Coleman County Telephone Cooperative, Inc. (Santa Anna, TX) | WMY240 | Petition to Deny | Central Texas Communications, Inc | 12/27/01
Concord Community School | 92071DB | Petition to Deny | Jones Community School | 6/13/93
Counterpoint Communications, Inc | BPLIF-19951020CF | Petition for Reconsideration |  | 9/2/97
Department of Education Archdiocese of New York | BPIFH-20000818AYB | Petition to Deny | Roman Catholic Diocese of Rockville Centre | 4/2/01
Department of Education Archdiocese of New York | KNZ69 | Petition to Deny | Roman Catholic Diocese of Rockville Centre | 4/2/01
Department of Education Archdiocese of New York | KRS81 | Petition to Deny | Roman Catholic Diocese of Rockville Centre | 4/2/01
Department of Education Archdiocese of New York | BPIFB-20000818CFI | Petition to Deny | Roman Catholic Diocese of Rockville Centre | 4/2/01
Department of Education Archdiocese of New York | BPLIF-20000818CJQ | Petition to Deny | Roman Catholic Diocese of Rockville Centre | 4/2/01
Department of Education Archdiocese of New York | BPLIFH-20000818AYC | Petition to Deny | Roman Catholic Diocese of Rockville Centre | 4/2/01
Department of Education Archdiocese of New York | BPIFH-20000818AZJ | Petition to Deny | Roman Catholic Diocese of Rockville Centre | 4/2/01
Department of Education Archdiocese of New York | BPIFH-20000818AVB | Petition to Deny | Roman Catholic Diocese of Rockville Centre | 4/2/01
Department of Education Archdiocese of New York | BPIFH-20000818AXZ | Petition to Deny | Roman Catholic Diocese of Rockville Centre | 4/2/01
Department of Education Archdiocese of New York | BPIF-20000818CJO | Petition to Deny | Roman Catholic Diocese of Rockville Centre | 4/2/01
Department of Education Archdiocese of New York | BPIFB-20000818BXG | Petition to Deny | Roman Catholic Diocese of Rockville Centre | 4/2/01
Department of Education Archdiocese of New York | BPIFB-20000818BXH | Petition to Deny | Roman Catholic Diocese of Rockville Centre | 4/2/01
Department of Education Archdiocese of New York | BPIFB-20000818CEF | Petition to Deny | Roman Catholic Diocese of Rockville Centre | 4/2/01
Department of Education Archdiocese of New York | BPIFB-20000818CEK | Petition to Deny | Roman Catholic Diocese of Rockville Centre | 4/2/01
Department of Education Archdiocese of New York | BPIFB-20000818CFN | Petition to Deny | Roman Catholic Diocese of Rockville Centre | 4/2/01
Department of Education Archdiocese of New York | BPIFH-20000818BZV | Petition to Deny | Roman Catholic Diocese of Rockville Centre | 4/2/01
Department of Education Archdiocese of New York | BPIFH-20000818CEM | Petition to Deny | Roman Catholic Diocese of Rockville Centre | 4/2/01
Department of Education Archdiocese of New York | BPIFH-20000818CEO | Petition to Deny | Roman Catholic Diocese of Rockville Centre | 4/2/01
Department of Education Archdiocese of New York | BPIFH-20000818COL | Petition to Deny | Roman Catholic Diocese of Rockville Centre | 4/2/01
Department of Education Archdiocese of New York | BIFH-20000818CON | Petition to Deny | Roman Catholic Diocese of Rockville Centre | 4/2/01
Department of Education Archdiocese of New York | BPIFB-20000818CEY | Petition to Deny | Roman Catholic Diocese of Rockville Centre | 4/2/01
Department of Education Archdioxese of New York | BPIFB-20000818CEV | Petition to Deny | Roman Catholic Diocese of Rockville Centre | 4/2/01
Department of Education, Archdiocese of New York | BPIFB2000818AXZ | Petition to Deny | Roman Catholic Diocese of Rockville Centre | 4/2/01
Diocese of Savannah and Savannah College of Art and Design | BPLIF-951020AN | Application for Review |  | 3/8/99
Diocese of Savannah and Savannah College of Art and Design | BPLIF-95102OBZ | Application for Review |  | 3/8/99
Eagleview Technologies, Inc | WMH805 | Petition to Deny | Bell South Wireless Cable, Inc | 1/30/01
Eagleview Technologies, Inc | WDU502 | Application for Review |  | 4/18/02
Eagleview Technologies, Inc | 57875-CM-R-91 | Application for Review |  | 4/18/02
Eagleview Technologies, Inc. (Jacksonville, FL) | BRMD-20010316ABB | Petition to Deny | Bell South Wireless Cable, Inc | 8/1/01
Educational Television Association of Metropolitan Cleveland | BPLIF-19951020JJ | Application for Review |  | 5/13/00
Emerson College | BPLIF-960919AB | Petition to Deny | Hispanic Information and Telecommunications Network, Inc | 3/14/97
Emerson College | WHR758 | Petition to Deny | Hispanic Information and Telecommunications Network, Inc | 3/14/97
Emerson College | BPLIF-951020EI | Petition to Deny | Hispanic Information and Telecommunications Network, Inc | 10/9/97
Estate of Wireless Telecommunications, Inc | B227 | Waiver Request |  | 8/31/01
Estate of Wireless Telecommunications, Inc | B249 | Waiver Request |  | 8/31/01
Estate of Wireless Telecommunications, Inc | KNSE289 | Waiver Request |  | 8/31/01
Estate of Wireless Telecommunications, Inc | BALMD-20010321ABN | Waiver Request |  | 8/31/01
Estate of Wireless Telecommunications, Inc | KNSE288 | Waiver Request |  | 8/31/01
Evans County School System | BMPLIF-980114DP | Petition to Deny | Wireless Cable of Florida, Inc | 2/23/98
Evans County School System | WLX698 | Petition to Deny | Wireless Cable of Florida, Inc | 2/23/98
Florida Atlantic University | BMPLIF-950524DD | Petition to Deny | School Board of Dade County | 11/1/96
Florida Atlantic University | WHR901 | Petition to Deny | School Board of Dade County | 11/1/96
Fresno MMDS Associates | 60636-CM-P-91 | Application for Review |  | 6/23/00
Gary Golden (Longview, TX) | BRMD-20010530AAA | Petition to Deny | Nucentrix Spectrum Resources, Inc | 8/2/01
Gary Golden (Longview, TX) | BRMD-20010530AAC | Petition to Deny | Nucentrix Spectrum Resources, Inc | 8/2/01
Gary Golden (Longview, TX) | WMH477 | Petition to Deny | Nucentrix Spectrum Resources, Inc | 8/2/01
Gary Golden (Longview, TX) | WMI306 | Petition to Deny | Nucentrix Spectrum Resources, Inc | 8/2/01
Georgia College—Macon Campus | BPLIF-951020PT | Petition for Reconsideration |  | 8/19/98
Grand MMDS Alliance New York F/P Partnership | WMY467 | Informal Objection | Trans Video Communications, Inc and CAI Wireless Systems, Inc | 11/14/97
Grand Wireless Company, Inc | BMDP-980721ND | Petition to Deny |  | 10/13/98
Grand Wireless Company, Inc | BMDP-980721NE | Petition to Deny |  | 10/13/98
Grand Wireless Company, Inc | BMDP-980721NF | Petition to Deny |  | 10/13/98
Guadalupe Valley Elec. Coop | BPMD-9051310 | Application for Review |  | 7/25/96
Harrisburg, PA Settlement | BPLIF-19951016B1 | Petition for Relief |  | 1/2/01
Harrisburg, PA Settlement | BPLIF-19951020GX | Petition for Relief |  | 1/2/01
Heartland Wireless Commercial Channels, Inc | BMDP980303FW | Petition to Deny | Tex-Star Wireless Communications Gamma | 5/7/98
Heartland Wireless Commercial Channels, Inc | BMDP980303FX | Petition to Deny | Tex-Star Wireless Communications Gamma | 5/7/98
Heartland Wireless Commercial Channels, Inc | BMDP980303FY | Petition to Deny | Tex-Star Wireless Communications Gamma | 5/7/98
Heartland Wireless Commercial Channels, Inc | BMDP970411OM | Petition to Deny | Tex-Star Wireless Communications Alpha and Beta | 5/30/97
Heartland Wireless Commercial Channels, Inc | BMDP970411ON | Petition to Deny | Tex-Star Wireless Communications Alpha and Beta | 5/30/97
Hispanic Information and Telecommunications Network, Inc | BPIFH-20010420AEK | Petition to Deny | BCTV, Inc | 6/25/01
Hispanic Information and Telecommunications Network, Inc | WLX690 | Petition to Deny | BCTV, Inc | 6/25/01
Hispanic Information and Telecommunications Network, Inc (Anderson, IN) | BPLIF-19951016BR | Petition for Reconsideration |  | 12/30/98
Hispanic Information and Telecommunications Network, Inc (Binghamton, NY) | BPLIF-19951020FT | Petition for Reconsideration |  | 10/22/97
Hispanic Information and Telecommunications Network, Inc (Indianapolis, Indiana) | BPLIF-951016BM | Petition for Reconsideration |  | 1/19/99
Hispanic Information and Telecommunications Network, Inc. (Jajuya, PR) | BPLIF-950215DQ | Petition to Deny | The University System of the Ana G. Mendez Educational Foundation | 7/7/95
Hispanic Information and Telecommunications Network, Inc. (Jajuya, PR) | BPLIF-950215DR | Petition to Deny | The University System of the Ana G. Mendez Educational Foundation | 7/7/95
Hispanic Information and Telecommunications Network, Inc. (Jajuya, PR) | BPLIF-950315DF | Petition to Deny | The University System of the Ana G. Mendez Educational Foundation | 7/7/95
Hispanic Information and Telecommunications Network, Inc. (Jajuya, PR) | BPLIF-950322DY | Petition to Deny | The University System of the Ana G. Mendez Educational Foundation | 7/7/95
Hispanic Information and Telecommunications Network, Inc. (Jajuya, PR) | WLX661 | Petition to Deny | The University System of the Ana G. Mendez Educational Foundation | 7/7/95
Hispanic Information and Telecommunications Network, Inc. (Jajuya, PR) | WLX663 | Petition to Deny | The University System of the Ana G. Mendez Educational Foundation | 7/7/95
Hispanic Information and Telecommunications Network, Inc. (Luquillo, PR B group) | BPLIF-19959215DS | Petition for Reconsideration |  | 4/17/02
Hispanic Information and Telecommunications Network, Inc. (Portland, OR) | BMPLIF-19980129DE | Application for Review |  | 8/21/98
Hispanic Information and Telecommunications Network, Inc. (Portland, OR) | WLX681 | Application for Review |  | 8/21/98
Hispanic Information and Telecommunications Network, Inc. (Portland, OR) | BPIFH-20000818DEB | Petition to Deny | Molalla High School | 4/2/01
Hispanic Information and Telecommunications Network, Inc. (Portland, OR) | WLX681 | Petition to Deny | Molalla High School | 4/2/01
Hispanic Information and Telecommunications Network, Inc. (Santa Fe, New Mexico) | BPLIF-930107DA | Petition for Reconsideration |  | 5/21/97
Hispanic Information and Telecommunications Network, Inc. (Seattle, WA) | BPIF-19950523DT | Petition for Reconsideration |  | 1/23/97
Hispanic Information and Telecommunications Network, Inc. (Seattle, WA) | WLX546 | Petition for Reconsideration |  | 1/23/97
Hispanic Information and Telecommunications Network, Inc. (Springfield, MA) | BPIF-19951016AW | Application for Review |  | 11/14/97
Hispanic Information and Telecommunications Network, Inc. (Tiverton, RI) | BPIFH20000818AJO | Petition to Deny | Eastern New England Licensee, Inc | 3/30/01
Hispanic Information and Telecommunications Network, Inc. (Tiverton, RI) | WLX690 | Petition to Deny | Eastern New England Licensee, Inc | 3/30/01
Hispanic Information and Telecommunications Network, Inc. (Tiverton, RI) | BPIFH-20000818AJO | Petition to Deny | Northeastern University | 4/2/01
Hispanic Information and Telecommunications Network, Inc (Tiverton, RI) | BPIFH-20000818AJO | Petition to Deny | BCTV, Inc | 6/25/01
Hispanic Information and Telecommunications Network, Inc. (Trenton, NJ) | BPLIF-19951016AT | Application for Review |  | 11/17/97
Hispanic Information and Telecommunications Network, Inc. (Winston Salem, NC) | BPLIF-19951016BH | Petition for Reconsideration |  | 5/11/98
Hispanic Information and Telecommunications Network, Inc., (Memphis, TN) | BPLIF-950523DV | Application for Review |  | 1/6/97
Hispanic Information and Telecommunications Network, Inc., (Memphis, TN) | WLX557 | Application for Review |  | 1/6/97
Hydra Communications | BRMD-9157865 | Petition for Reconsideration |  | 4/12/02
Inforum Communications |  | Waiver Request |  | 10/30/01
Inforum Communications, Inc. and TDI Acquisition Corp. (Sarasota, FL) | BALMD-20010718AAC | Petition to Deny | Paradise Cable, Inc | 8/31/01
Inforum Communications, Inc. and TDI Acquisition Corp. (Sarasota, FL) | B408 | Petition to Deny | Paradise Cable, Inc | 8/31/01
Inforum Communications, Inc. and TDI Acquisition Corp. (Sarasota, FL) | KNSC300 | Petition to Deny | Paradise Cable, Inc | 8/31/01
Inforum Communications, Inc. and TDI Acquisition Corp. (Sarasota, FL) | KNSC798 | Petition to Deny | Paradise Cable, Inc | 8/31/01
Inforum Communications, Inc. and TDI Acquisition Corp. (Sarasota, FL) | WMI303 | Petition to Deny | Paradise Cable, Inc | 8/31/01
Instructional Telecommunications Foundation, Inc | BPIFH-20000818AKD | Petition to Deny | Sprint Corp | 4/2/01
Instructional Telecommunications Foundation, Inc | BLNPNIF-20020618AAC | Petition to Deny | WorldCom Broadband Solutions, Inc.; Northwest Communications, Inc | 8/22/02
Instructional Telecommunications Foundation, Inc | WHR527 | Petition to Deny | WorldCom Broadband Solutions, Inc.; Northwest Communications, Inc | 8/22/02
Iowa Rural TV, Inc | WLW851 | Waiver Request |  | 12/16/02
Iowa Rural TV, Inc | WMX648 | Waiver Request |  | 12/16/02
Iowa Rural TV, Inc | WMX649 | Waiver Request |  | 12/16/02
JCL El Dorado AR F Grand Alliance | 54408-CM-P-91 | Petition for Reconsideration |  | 5/14/99
JCL El Dorado AR F Grand Alliance | WMY298 | Petition for Reconsideration |  | 5/14/99
John Mester d/b/a Mester's TV | BPMD-9200312 | Application for Review |  | 2/22/00
John Mester d/b/a Mester's TV | BPMD-9200313 | Application for Review |  | 2/22/00
Judith K. Vega | 50444-CM-P-92 | Petition for Reconsideration |  | 3/1/93
Kannew Broadcast Technologies (Augusta, ME) | BRMD-20010329AGA | Petition to Deny | Pegasus Communications Portfolio Holdings, Inc. | 8/2/01
Kannew Broadcast Technologies (Augusta, ME) | WMI878 | Petition to Deny | Pegasus Communications Portfolio Holdings, Inc. | 8/2/01
Lehigh Valley Mobile Telephone Company | 59659-CM-AL-91 | Application for Review |  | 3/20/92
Line of Site, Inc | CIP-92-00221 | Application for Review |  | 7/17/00
Line of Site, Inc | CIP-92-00414 | Application for Review |  | 7/17/00
Line of Site, Inc | WHT721 | Informal objection | Clark County School District | 10/16/01
Lois Hubbard | BMAMDIH-20010129ADM | Petition to Deny |  | 3/30/01
Lynchburg MDS, LLC (Lynchburg, VA) | BLMPD-9650880 | Waiver Request |  | 8/30/01
Lynchburg MDS, LLC (Lynchburg, VA) | WMI288 | Waiver Request |  | 8/30/01
MDS Digital Network, Inc. (Los Angeles, CA) | BRMD-20010330ADO | Petition to Deny | Southern Wireless Video, Inc | 8/1/01
MDS Digital Network, Inc. (Los Angeles, CA) | BRMD-20010330AHV | Petition to Deny | Southern Wireless Video, Inc | 8/1/01
MDS Digital Network, Inc. (Los Angeles, CA) | BRMD-20010330AHW | Petition to Deny | Southern Wireless Video, Inc | 8/1/01
MDS Digital Network, Inc. (Los Angeles, CA) | KF179 | Petition to Deny | Southern Wireless Video, Inc | 8/1/01
MDS Digital Network, Inc. (Los Angeles, CA) | KFF79 | Petition to Deny | Southern Wireless Video, Inc | 8/1/01
MDS Digital Network, Inc. (Los Angeles, CA) | WPY40 | Petition to Deny | Southern Wireless Video, Inc | 8/1/01
Mesa Unified School District #4 | BPLIF-19951020QF | Petition to Deny | Instructional Telecommunications Foundation, Inc | 9/8/97
Michael Reed, Joseph Hemenway, and James Larsen | 53346-CM-P-92 | Application for Review |  | 6/12/00
Michael Reed, Joseph Hemenway, and James Larsen | 53347-CM-P-92 | Application for Review |  | 6/12/00
Michael Reed, Joseph Hemenway, and James Larsen | 53348-CM-P-92 | Application for Review |  | 6/12/00
Michigan Center School District | 920717DA | Informal Objection | Hillside Community College | 2/5/92
Microband Corp. of America (Portland, OR) | BRMD-9157851 | Informal objection |  | 9/29/99
Microband Corp. of America (Portland, OR) | BRMD-20010402AEM | Informal objection |  | 9/29/99
Microband Corp. of America (Portland, OR) | WPY39 | Informal objection |  | 9/29/99
Microband Corp. of America (Portland, OR) | BRMD-20010402AEM | Petition to Deny |  | 12/20/01
Microband Corp. of America (Portland, OR) | BRMD-9157851 | Petition to Deny |  | 12/20/01
Microband Corp. of America (Portland, OR) | WPY39 | Petition to Deny |  | 12/20/01
MMDS, Inc | 2497-CM-P-83 | Application for Review |  | 9/8/93
Morningstar Educational Network | BPLIF-19951020EI | Petition to Deny | Hispanic Information and Telecommunications Network, Inc | 9/5/97
Mount Pleasant Partners (Alpha and Beta) | BPMD-9161246 | Application for Review |  | 2/22/00
Mount Pleasant Partners (Alpha and Beta) | BPMD-9161247 | Application for Review |  | 2/22/00
MWTV, Inc | WMH652 | Petition for Relief | Philip C. Merrill | 12/12/97
MWTV, Inc | WLW938 | Petition for Reconsideration |  | 9/17/01
MWTV, Inc | BPMD-8310238 | Petition for Reconsideration |  | 9/17/01
MWTV, Inc | BMPMD-9253169 | Petition for Reconsideration |  | 9/17/01
National Television Co | WHT664 | Waiver Request |  | 8/30/02
National Television Co. (Jacksonville, NC) | BEMD-9650559 | Petition for Relief | Wireless One of North Carolina, Inc | 8/4/01
National Television Co. (Jacksonville, NC) | WMH601 | Petition for Relief | Wireless One of North Carolina, Inc | 8/4/01
NDW, Inc | 50803-CM-P-93 | Petition for Reconsideration |  | 5/31/96
North American Catholic Educational Programming Foundation, Inc | BPLIF-19951020LE | Petition for Relief |  | 5/30/00
North American Catholic Educational Programming Foundation, Inc | BPLIF-19951020RL | Petition for Relief |  | 5/30/00
North American Catholic Educational Programming Foundation, Inc | BPIFH-20000818DLA | Petition to Deny | Sprint Corp | 4/2/01
North American Catholic Educational Programming Foundation, Inc | BPIFH-20010420AER | Petition to Deny England Licensee, Inc | Eastern New | 4/10/02
North American Catholic Educational Programming Foundation, Inc | WNC521 | Petition to Deny | Eastern New England Licensee, Inc | 4/10/02
Norwich University | BPLIF-911008DD | Petition to Deny | Satellite Signals of New England, Inc | 1/13/92
Nucentrix Spectrum Resources, Inc | 50905-CM-MP-96 | Petition for Reconsideration |  | 12/4/00
Nucentrix Spectrum Resources, Inc | WMX716 | Petition for Reconsideration |  | 12/4/00
Nucentrix Spectrum Resources, Inc. (Longview, TX) | BPMD-20010802AAA | Petition to Deny | Gary Golden | 9/7/01
Nucentrix Spectrum Resources, Inc. (Longview, TX) | BPMD-20010802AAB | Petition to Deny | Gary Golden | 9/7/01
Nucentrix Spectrum Resources, Inc. (Woodward, OK B Group) | 51618-CM-MP-96 | Petition for Reconsideration |  | 12/4/00
Nucentrix Spectrum Resources, Inc. (Woodward, OK B Group) | WMX712 | Petition for Reconsideration |  | 12/4/00
Oklahoma State Regents for Higher Education | BPLIF-19951020JM | Petition for Reconsideration |  | 8/8/97
Oklahoma Western Telephone Co | BPMD-9201637 | Application for Review |  | 5/21/98
Oregon State University | BMPLIF-19961223FN | Petition for Reconsideration |  | 3/5/98
Oregon State University | WNC718 | Petition for Reconsideration |  | 3/5/98
Provo School District | BPLIF-19951020SN | Petition to Deny | Instructional Telecommunications Foundation, Inc | 7/11/97
Raleigh, North Carolina D Group Settlement | BPLIF-19951020BD | Petition for Relief |  | 6/30/00
Raleigh, North Carolina D Group Settlement | BPLIF-19951020HD | Petition for Relief |  | 6/30/00
Raleigh, North Carolina G Group Settlement | BPLIF-19981028DY | Petition for Relief |  | 1/12/99
Reid Institute | BPLIF-19951020HN | Petition to Deny | Instructional Telecommunications Foundation, Inc | 7/11/97
Richmond Hill Christian Academy | BPLIF-951020PH | Petition to Deny | The Board of Public Education for the City of Savannah and County of Chatham and Wireless Cable of Florida, Inc | 8/6/98
Robert Walser | 50054-CM-P-98 | Petition to Deny | Hispanic Information and Telecommunications Network, Inc | 5/15/98
Ronald Abboud | WLW992 | Petition for Relief | Wireless Entertainment Network, Inc. and Line of Site, Inc | 7/30/92
San Diego MDS Company | 57950-CM-R-91 | Petition for Reconsideration |  | 7/1/96
San Diego MDS Company | WHT559 | Petition for Reconsideration |  | 7/1/96
Satellite Signals of New England, Inc |  | Waiver Request |  | 4/26/99
School Board of Dade County, et al | BMPLIF-19930616DV | Informal objection | Wireless Broadcasting Systems of America, Inc | 7/14/95
School Board of Dade County, et al | BMPLIF-19950407DG | Informal objection | Wireless Broadcasting Systems of America, Inc | 7/14/95
School Board of Dade County, et al | BMPLIF-19950515DA | Informal objection | Wireless Broadcasting Systems of America, Inc | 7/14/95
School Board of Dade County, et al | BMPLIF-19950515DL | Informal objection | Wireless Broadcasting Systems of America, Inc | 7/14/95
School Board of Dade County, et al | BMPLIF-19950515DM | Informal objection | Wireless Broadcasting Systems of America, Inc | 7/14/95
School Board of Dade County, et al | BMPLIF-19950707FA | Informal objection | Wireless Broadcasting Systems of America, Inc | 7/14/95
School Board of Dade County, et al | KTB84 | Informal objection | Wireless Broadcasting Systems of America, Inc | 7/14/95
School Board of Dade County, et al | WHA956 | Informal objection | Wireless Broadcasting Systems of America, Inc | 7/14/95
School Board of Dade County, et al | WHG230 | Informal objection | Wireless Broadcasting Systems of America, Inc | 7/14/95
School Board of Dade County, et al | WHR790 | Informal objection | Wireless Broadcasting Systems of America, Inc | 7/14/95
School Board of Dade County, et al | WHR866 | Informal objection | Wireless Broadcasting Systems of America, Inc | 7/14/95
School Board of Palm Beach County FL | BALIF-9550758 | Waiver Request |  | 5/24/95
School Board of Palm Beach County FL | KZB30 | Waiver Request |  | 5/24/95
Shekinah Network | BPLIF-951018AA | Petition to Deny | Unified School District #273 | 6/11/98
Shekinah Network | BPIF-19951019BJ | Petition to Deny | CAI Wireless Systems, Inc | 12/8/98
Shekinah Network | BPIF-19951020QR | Application for Review |  | 8/23/99
Skagit Valley College | BPLIF-951020XD | Petition to Deny |  | 7/10/97
Southern Wireless Video, Inc | 9950144 | Petition to Deny | DCT Los Angeles, LLC | 2/19/99
Southern Wireless Video, Inc | WPW94 | Petition to Deny | DCT Los Angeles, LLC | 2/19/99
Southland C-9 School District | BMPLIF-920228DD | Petition for Reconsideration |  | 12/17/02
Stephanie Engstrom | BMAMDIH-20010129ADI | Petition to Deny | Sherry Rullman and American Telecasting of Seattle, Inc | 3/30/01
Technical Trade Institute | 9501020SH | Informal Objection | Hispanic Information and Telecommunications Network, Inc | 6/16/97
Tekkom, Inc | 50301-CM-P-83 | Petition for Reconsideration |  | 1/16/96
Tel-Com Wireless |  | Waiver Request |  | 4/29/99
Tex-Star Wireless Communications | BLMD-9350779 | Petition for Relief | Heartland Wireless Commercial | 2/25/97
Tex-Star Wireless Communications | BLMD-9350780 | Petition for Relief | Heartland Wireless Commercial Channels, Inc | 2/25/97
Tex-Star Wireless Communications | BLMD-9450245 | Petition for Relief | Heartland Wireless Commercial Channels, Inc | 2/25/97
Tex-Star Wireless Communications | WMI373 | Petition for Relief | Heartland Wireless Commercial Channels, Inc | 2/25/97
Tex-Star Wireless Communications | WMI377 | Petition for Relief | Heartland Wireless Commercial Channels, Inc | 2/25/97
Tex-Star Wireless Communications | WNTK882 | Petition for Relief | Heartland Wireless Commercial Channels, Inc | 2/25/97
Tex-Star Wireless Communications | BRMD-20010430AAE | Petition to Deny | Heartland Wireless Commercial Channels, Inc | 8/2/01
Tex-Star Wireless Communications | BRMD-20010430AAF | Petition to Deny | Heartland Wireless Commercial Channels, Inc | 8/2/01
Tex-Star Wireless Communications | BRMD-20010430AAD | Petition to Deny | Heartland Wireless Commercial Channels, Inc | 8/2/01
Tex-Star Wireless Communications | WMI373 | Petition to Deny | Heartland Wireless Commercial Channels, Inc | 8/2/01
Tex-Star Wireless Communications | WMI377 | Petition to Deny | Heartland Wireless Commercial Channels, Inc | 8/2/01
Tex-Star Wireless Communications | WNTK882 | Petition to Deny | Heartland Wireless Commercial Channels, Inc | 8/2/01
The School Board of Dade County, Florida | BMPLIF-950915HW | Petition to Deny |  | 11/1/96
The School Board of Dade County, Florida | WTB85 | Petition to Deny |  | 11/1/96
Trans Video Communications | BPIF20000818CJV | Petition to Deny | Roman Catholic Diocese of Rockville Centre; Grand MMDS Alliance New York F/P Partnership | 4/2/01
Trans Video Communications | KNZ69 | Petition to Deny | Roman Catholic Diocese of Rockville Centre; Grand MMDS Alliance New York F/P Partnership | 4/2/01
Trans Video Communications Inc | BPIFH-20000818BYE | Petition to Deny | Roman Catholic Diocese of Rockville Centre; Grand MMDS Alliance New York F/P Partnership | 4/2/01
Trans Video Communications, Inc | BMPLIF-19950728ER | Petition to Deny | Grand MMDS Alliance New York F/P Partnership | 9/27/95
Trans Video Communications, Inc | KNZ70 | Petition to Deny | Roman Catholic Diocese of Rockville Centre; Grand MMDS Alliance New York F/P Partnership | 9/27/95
Trans Video Communications, Inc | BMPIF-19950914MF | Petition to Deny | Grand MMDS Alliance New York F/P Partnership | 1/11/96
Trans Video Communications, Inc | KVS31 | Petition to Deny | Roman Catholic Diocese of Rockville Centre; Grand MMDS Alliance New York F/P Partnership | 1/11/96
Trans Video Communications, Inc | BMLIF-19870429DF | Petition for Relief | Grand MMDS Alliance New York F/P Partnership | 3/14/96
Trans Video Communications, Inc | KNZ69 | Petition for Relief | Grand MMDS Alliance New York F/P Partnership | 3/14/96
Trans Video Communications, Inc | BPIFH20000818CGV | Petition to Deny | Roman Catholic Diocese of Rockville Centre; Grand MMDS Alliance New York F/P Partnership | 4/2/01
Trans Video Communications, Inc | KNZ69 | Petition to Deny | Roman Catholic Diocese of Rockville Centre; Grand MMDS Alliance New York F/P Partnership | 4/2/01
Trans Video Communications, Inc | KNZ70 | Petition to Deny | Roman Catholic Diocese of Rockville Centre; Grand MMDS Alliance New York F/P Partnership | 4/2/01
Trans Video Communications, Inc | KRS81 | Petition to Deny | Roman Catholic Diocese of Rockville Centre; Grand MMDS Alliance New York F/P Partnership | 4/2/01
Trans Video Communications, Inc | KRS82 | Petition to Deny | Roman Catholic Diocese of Rockville Centre; Grand MMDS Alliance New York F/P Partnership | 4/2/01
Trans Video Communications, Inc | KVS31 | Petition to Deny | Roman Catholic Diocese of Rockville Centre; Grand MMDS Alliance New York F/P Partnership | 4/2/01
Trans Video Communications, Inc | KZE20 | Petition to Deny | Roman Catholic Diocese of Rockville Centre; Grand MMDS Alliance New York F/P Partnership | 4/2/01
Trans Video Communications, Inc | WHR691 | Petition to Deny | Roman Catholic Diocese of Rockville Centre; Grand MMDS Alliance New York F/P Partnership | 4/2/01
Trocki Hebrew Academy of Atlantic County | BPLIF-951020BH | Petition to Deny |  | 5/6/98
Trocki Hebrew Academy of Atlantic County | WHR527 | Petition to Deny |  | 5/6/98
Twiggs County High School | WNC324 | Petition to Deny | Baldwin County School System | 4/30/98
Twiggs County Middle School | WLX666 | Petition to Deny |  | 4/30/98
University of Massachusetts | BPLIF-19951020GF | Petition for Reconsideration | Georgia College—Macon Campus and The Information Resource Center | 10/14/97
University of North Carolina Wilmington, et al. (Jacksonville, NC settlement) | BPIF-19951020B9 | Petition for Relief |  | 6/30/00
University of North Carolina Wilmington, et al. (Jacksonville, NC settlement) | BPIF-19951020GC | Petition for Relief |  | 6/30/00
University of North Carolina Wilmington, et al. (Jacksonville, NC settlement) | BPIF-19951020IU | Petition for Relief |  | 6/30/00
University of North Carolina Wilmington, et al. (Jacksonville, NC settlement) | BPIF-19951020LO | Petition for Relief |  | 6/30/00
University of North Carolina Wilmington, et al. (Jacksonville, NC settlement) | BPIF-19951020LX | Petition for Relief |  | 6/30/00
University of North Carolina Wilmington, et al. (Jacksonville, NC settlement) | BPIF-19951020MJ | Petition for Relief |  | 6/30/00
University of North Carolina Wilmington, et al. (Jacksonville, NC settlement) | BPIF-19951020ML | Petition for Relief |  | 6/30/00
University of North Carolina Wilmington, et al. (Jacksonville, NC settlement) | BPIF-19951020MN | Petition for Relief |  | 6/30/00
University of North Carolina Wilmington, et al. (Jacksonville, NC settlement) | BPIF-19951020RF | Petition for Relief |  | 6/30/00
University of North Carolina Wilmington, et al. (Jacksonville, NC settlement) | BPIF-19951020RQ | Petition for Relief |  | 6/30/00
University of North Carolina Wilmington, et al. (Jacksonville, NC settlement) | BPIF-19951020SL | Petition for Relief |  | 6/30/00
University of North Carolina Wilmington, et al. (Jacksonville, NC settlement) | BPIF-19951020TX | Petition for Relief |  | 6/30/00
Via/Net Companies | WHJ942 | Petition for Relief | Paging Systems, Inc | 10/30/97
Via/Net Companies | 50904-CM-P-97 | Petition for Relief |  | 10/30/97
Views on Learning, Inc | BPLIF-19930122DD | Petition for Relief | Paging Systems, Inc | 1/11/99
Views on Learning, Inc | BPLIF-19931230EH | Petition for Relief |  | 1/11/99
Virginia Communications |  | Waiver Request |  | 10/7/02
Walter Communications, Inc | 15810-CM-P-83 | Petition for Reconsideration |  | 6/4/93
Western New Mexico University | BMPLIF-951019BL | Petition to Deny | Hispanic Information and Telecommunications Network, Inc | 7/17/97
WYSE Wireless Partnership | 53037-CM-P-90 | Application for Review |  | 7/8/96

[FR Doc. 03-8619 Filed 4-9-03; 8:45 am]

BILLING CODE 6712-01-P